OFFICE OF PERSONNEL MANAGEMENT

Notice of Submission for Approval: Information Collection 3206-0259; Freedom of Information/Privacy Act Record Request Form, INV 100

AGENCY: U.S. Office of Personnel Management.

ACTION: 30-Day notice and request for comments.

SUMMARY: The Federal Investigative Services (FIS), U.S. Office of Personnel Management (OPM) is notifying the general public and other Federal agencies that OPM is seeking Office of Management and Budget (OMB) approval of a renewal information collection, control number 3206-0259, Freedom of Information/Privacy Act Record Request Form, INV 100. As required by the Paperwork Reduction Act of 1995, (Pub. L. 104-13, 44 U.S.C. chapter 35), as amended by the Clinger-Cohen Act (Pub. L. 104-106), OPM is providing an additional 30 days for public comments. OPM previously solicited comments for this collection, with a 60-day public comment period, at 81 FR 2923 (January 19, 2016).

DATES: Comments are encouraged and will be accepted until May 31, 2016. This process is conducted in accordance with 5 CFR 1320.10.

ADDRESSES: Interested persons are invited to submit written comments on the proposed information collection to the Office of Information and Regulatory Affairs, Office of Management Budget, 725 17th Street NW., Washington, DC 20503, Attention: Desk Officer for the Office of Personnel Management or sent via electronic mail to oira_submission@omb.eop.gov or faxed to (202) 395-6974.

FOR FURTHER INFORMATION CONTACT: A copy of this information collection, with applicable supporting documentation, may be obtained by contacting Federal Investigative Services, U.S. Office of Personnel Management, 1900 E Street NW., Washington, DC 20415, Attention: Donna McLeod or by electronic mail at FISFormsComments@opm.gov.

SUPPLEMENTARY INFORMATION: This notice announces that OPM has submitted to OMB a request for review and clearance of a revised information collection, control number 3206-0259, Freedom of Information/Privacy Act Record Request Form, INV 100. The public has an additional 30-day opportunity to comment.

The Freedom of Information/Privacy Act Record Request Form, INV 100, is an information collection completed by individuals submitting Freedom of Information (FOIA), Privacy Act, and Amendment record requests to OPM's Federal Investigative Services (FIS), Freedom of Information and Privacy Act (FOI/PA) office. OPM's FIS-FOI/PA office utilizes the optional form INV 100 to standardize collection of data elements specific to the types of record requests. Current record requests can be submitted to FIS-FOI/PA in a format chosen by the requester. Often, requests are missing data elements which require contact with the requester, thereby adding time to the process. Standardization of the process will increase the volume of perfected requests received and strike an appropriate balance between the burden to the public in submitting a request and FIS-FOI/PA being able to fulfill FOIA, Privacy Act, and Amendment requests in an efficient manner.

The 60-day Federal Register Notice was published on January 12, 2016 (81 FR 2923). One comment was received from an individual from the Department of Defense Education Activity (DoDEA). DoDEA commented that all individuals and organizations should have a clear, simple process in place that allows them to request and obtain, or amend information when required. OPM already offers clear guidance in this matter on the INV 100. OPM considers this comment to be outside the scope of this collection.

Analysis

Agency: Federal Investigative Services, U.S. Office of Personnel Management.

Title: Freedom of Information/Privacy Act Record Request Form, INV 100.

OMB Number: 3206-0259.

Affected Public: Individuals submitting FOIA and Privacy Act record requests to FIS-FOI/PA.

Number of Respondents: 15,682.

Estimated Time per Respondent: 5 minutes.

Total Burden Hours: 1,307.

U.S. Office of Personnel Management.
Beth F. Cobert,
Acting Director.

[FR Doc. 2016-10060 Filed 4-28-16; 8:45 am]

BILLING CODE 6325-53-P